FEDERAL COMMUNICATIONS COMMISSION

[EB Docket No. 01-39; FCC 01-44]

Order To Show Cause and Notice of Opportunity for Hearing

AGENCY: Federal Communications Commission.

ACTION: Notice.

SUMMARY: The Commission has ordered a hearing to determine whether the licenses held by Family Broadcasting, Inc. for Stations WSTX(AM) and WSTX-FM, Christiansted, U.S. Virgin Islands, should be revoked. The Commission has determined that serious questions exist as to whether Family Broadcasting, Inc. willfully and repeatedly violated the Commission's rules and misrepresented facts to and/or lacked candor with the Commission.

ADDRESSES: Federal Communications Commission, Enforcement Bureau, 445 12th Street, SW, Washington, D.C. 20554.

FOR FURTHER INFORMATION CONTACT: Kathy Berthot, Enforcement Bureau, Technical and Public Safety Division, (202) 418-7454.

SUPPLEMENTARY INFORMATION: This is a summary of an Order to Show Cause and Notice of Opportunity for Hearing in EB Docket No. 01-39, adopted on February 8, 2001, and released on February 13, 2001. The complete text of this Order is available for inspection and copying during normal business hours in the FCC Reference Information Center, Courtyard Level, 445 12th Street, SW, Washington, D.C., and also may be purchased from the Commission's copy contractor, International Transcription Services, Inc., at 202-857-3800, CY-B400, 445 12th Street, SW, Washington, D.C.

Summary of Order To Show Cause and Notice of Opportunity for Hearing

1. The Commission has commenced a hearing proceeding to determine whether Family Broadcasting, Inc. (“Family”), licensee of Stations WSTX(AM) and WSTX-FM, Christiansted, U.S. Virgin Islands, is qualified to be or remain a Commission licensee. The record before the Commission indicates that Family has misrepresented facts to and/or lacked candor with the Commission regarding its relocation of WSTX-FM's transmitter from its authorized site. In addition, the record indicates that Family has operated both WSTX(AM) and WSTX-FM substantially at variance from the terms of their authorizations for approximately four years and has committed numerous other violations of the Commission's rules, including violations which raise public safety concerns. Family has also repeatedly failed to respond to Commission correspondence and inquiries. Pursuant to sections 312(a) and 312(c) of the Communications Act of 1934, as amended, Family is ordered to show cause why the licenses for Stations WSTX(AM) and WSTX-FM should not be revoked, at a hearing proceeding before an Administrative Law Judge at a time and place to be specified in a subsequent Order, upon the following issues:

(a) To determine whether Family Broadcasting, Inc. misrepresented facts to and/or lacked candor with the Commission in its statements regarding the relocation of WSTX-FM's transmitter from its authorized site in violation of section 73.1015 of the Commission's Rules;

(b) To determine whether Family Broadcasting, Inc. willfully or repeatedly violated sections 1.89 and/or 73.1015 of the Commission's Rules by failing to respond to official Commission correspondence and inquiries;

(c) To determine whether Family Broadcasting, Inc. willfully or repeatedly violated sections 73.1350(a), 73.1560(a), 73.1560(b) and/or 73.1690(b)(2) of the Commission's Rules by operating WSTX(AM) and WSTX-FM at variance from the terms of their authorizations;

(d) To determine whether Family Broadcasting, Inc. willfully or repeatedly violated section 73.49 of the Commission's Rules by failing to enclose WSTX(AM)'s antenna within an effective locked fence;

(e) To determine whether Family Broadcasting, Inc. willfully or repeatedly violated section 11.35 of the Commission's Rules by failing to install and maintain operational EAS equipment for WSTX(AM) and WSTX-FM;

(f) To determine whether Family Broadcasting, Inc. willfully or repeatedly violated section 73.3526 of the Commission's Rules by failing to maintain public inspection files for WSTX(AM) and WSTX-FM;

(g) To determine, in light of the evidence adduced pursuant to the foregoing issues, whether Family Broadcasting, Inc. is basically qualified to be or remain a Commission licensee; and

(h) To determine, in light of the evidence adduced pursuant to the foregoing issues, whether the licenses for WSTX(AM) and/or WSTX-FM should be revoked.

2. The Commission also ordered that it be determined, pursuant to section 503 of the Communications Act of 1934, as amended, whether an Order of Forfeiture in an amount not to exceed two hundred seventy five thousand dollars ($275,000) shall be issued against Family for willfully and/or repeatedly violating sections 1.89, 11.35, 73.49, 73.1015, 73.1350(a), 73.1560(a), 73.1560(b), 73.1690(b)(2) and/or 73.3526 of the Commission's Rules.

3. The Commission ordered that, to avail itself of the opportunity to be heard and the right to present evidence at a hearing in these proceedings, Family, in person or by its attorney, shall file within 30 days of the release of the Order to Show Cause and Notice of Opportunity for Hearing, a written appearance stating that it will appear at the hearing and present evidence on matters specified in the Order. If Family fails to file a timely written notice of appearance, the right to a hearing shall be deemed to be waived. Where a hearing is waived, Family may submit a written, signed statement of mitigation or justification within 30 days of the release of the Order. In the event the right to a hearing is waived, the Chief Administrative Law Judge (or presiding officer if one has been designated) shall, at the earliest practicable date, issue an order terminating the hearing proceeding and certifying the case to the Commission.

Federal Communications Commission.
Magalie Roman Salas,
Secretary.

[FR Doc. 01-4029 Filed 2-15-01; 8:45 am]

BILLING CODE 6712-01-P